DEPARTMENT OF LABOR

Employment and Training Administration

[TA-W-41,880]

Affiliated Building Services, Biscoe, North Carolina; Notice of Negative Determination Regarding Application for Reconsideration

By application dated October 2, 2002, a company official requested administrative reconsideration of the Department's negative determination regarding eligibility for workers and former workers of the subject firm to apply for Trade Adjustment Assistance (TAA). The denial notice applicable to workers of Affiliated Building Services, Biscoe, North Carolina was signed on September 9, 2002, and published in the Federal Register on September 27, 2002 (67 FR 61160).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Affiliated Building Services, Biscoe, North Carolina engaged in activities related to the maintenance of building systems (heating, cooling, air compressors). The petition was denied because the petitioning workers did not produce an article within the meaning of Section 222(3) of the Act.

To support its request for reconsideration, the petitioners provided a more detailed description of the functions performed at the subject facility.

A review of the job duties and their relationship to production of products revealed that the expanded description did not vary from the functions described in the initial investigation: maintenance of building systems, including heating, cooling and air compressors.

Only in very limited instances are service workers certified for TAA, namely the worker separations must be caused by a reduced demand for their services from a parent or controlling firm or subdivision whose workers produce an article and who are currently under certification for TAA.

In conclusion, the petitioning workers at the subject firm did not produce an article within the meaning of Section 222(3) of the Trade Act of 1974, nor were separations caused by a reduced demand for their services from a parent or controlling firm or subdivision whose workers produced an article and who are currently under certification for TAA.

Conclusion

After review of the application and investigative findings, I conclude that there has been no error or misinterpretation of the law or of the facts which would justify reconsideration of the Department of Labor's prior decision. Accordingly, the application is denied.

Signed at Washington, DC, this 11th day of February, 2003.
Edward A. Tomchick,
Director, Division of Trade Adjustment Assistance.

[FR Doc. 03-4286 Filed 2-21-03; 8:45 am]

BILLING CODE 4510-30-P